DEPARTMENT OF AGRICULTURE

Agricultural Marketing Service

[Document Number AMS-FV-09-0067; FV-09-330]

United States Standards for Grades of Processed Raisins

AGENCY: Agricultural Marketing Service, USDA.

ACTION: Notice and withdrawal.

SUMMARY: The Agricultural Marketing Service (AMS), of the United States Department of Agriculture (USDA) is withdrawing a notice soliciting comments on its proposed revision to the United States Standards for Grades of Processed Raisins. Based on the petitioner's request to withdraw their petition, the agency has decided not to proceed with this action.

DATES: Effective Date: June 10, 2011.

FOR FURTHER INFORMATION CONTACT: Myron Betts, Inspection and Standardization Section, Processed Products Branch (PPB), Fruit and Vegetable Programs (FV), AMS, USDA, 1400 Independence Avenue, SW., Room 0709, South Building; STOP 0247, Washington, DC 20250; Telephone: (202) 720-5021 or fax (202) 690-1527; or e-mail: Myron.Betts@ams.usda.gov. The United States Standards for Grades of Processed Raisins are available by accessing the AMS Web site on the Internet at http://www.ams.usda.gov/processedinspection.

Background

On February 2, 2005, AMS received a petition from the Raisin Administrative Committee (RAC), requesting revision to the United States Standards for Grades of Processed Raisins. These standards are issued under the Agricultural Marketing Act of 1946 (7 U.S.C. 1621-1627).

The petitioner requested that AMS revise the United States Standards for Grades of Processed Raisins, Type I, Seedless Raisins. The revision would add a third sub-type, “Vine-dried (without the application of drying chemicals or materials)” and change the existing sub-type for “Dipped, Vine-dried or similarly processed raisins” to “Dipped, Vine-dried, treated with drying chemicals or materials”.

On February 28, 2006, AMS published an advance notice of proposed rulemaking in the Federal Register (Vol. 71 39), [Docket No. FV-06-331] soliciting comments on the petition to revise the United States Standards for Grades of Processed Raisins. Between March 2007 and April 2010, AMS circulated a discussion draft to RAC which included a similar proposed revision to Type III, Raisins with Seeds. AMS did not receive any comments.

On July 21, 2010, AMS asked the RAC if they would like to adopt the proposed changes or withdraw the petition. The RAC could not agree on the discussion draft language.

In September 2010, AMS notified the RAC of its plan to withdraw the action to revise the United States Standards for Grades of Processed Raisins. The RAC agreed to bring up the issue again during their October 5, 2010, meeting. In October 2010 the RAC informed AMS that they had interest in keeping the process on the proposed revision open.

In March 2011, the RAC requested that the proposed change to the United States Standards for Grades of Processed Raisins be withdrawn.

AMS has decided not to proceed further with the proposed revision to the United States Standards for Grades of Processed Raisins and it is hereby withdrawn.

Authority: 7 U.S.C. 1621-1627.

Dated: June 7, 2011.
Ellen King,
Acting Administrator, Agricultural Marketing Service.

[FR Doc. 2011-14484 Filed 6-9-11; 8:45 am]

BILLING CODE 3410-02-P